NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 30, 2007. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows: 1. Applicant: Permit Application No.: 2008-030. Christopher Linder, Woods Hole Oceanographic Institute, 7328 24th Avenue, NE., Seattle, WA 98115.

Activity for Which Permit Is Requested: Enter Antarctic Specially Protected Areas. The applicant plans to enter Cape Crozier (ASPA #124), Backdoor Bay, Cape Royds (ASPA #157), and Cape Royds (ASPA #121) for the purpose of videotaping scientific research with penguins as part of an International Polar Year (IPY) education and outreach project, “Live from the Poles”. Live from the Poles will help heighten public awareness during IPY by bringing cutting-edge science to diverse, worldwide audiences of students, teachers, and the public.

Location: Cape Crozier (ASPA #124), Backdoor Bay, Cape Royds (ASPA #157), and Cape Royds (ASPA #121).

Dates: November 24, 2007 to January 13, 2008.

Nadene G. Kennedy,
Permit Officer, Office of Polar Programs.

[FR Doc. E7-21362 Filed 10-30-07; 8:45 am]

BILLING CODE 7555-01-P